DEPARTMENT OF EDUCATION

Office of Special Education and Rehabilitative Services; Inviting Applications for New Awards

AGENCY: Department of Education.

ACTION: Notice inviting applications for new awards for fiscal years (FY) 2002; Correction.

On May 24, 2002, a notice inviting applications for new awards under the Office of Special Education and Rehabilitative Services; Grant Applications under the Special Education—Training and Information for Parents of Children with Disabilities Program was published in the Federal Register (67 FR 36774). Under the Parent Training and Information Centers (84.328M) priority on page 36776, in column 1, “Estimated Project Awards” section, and the table also included on page 36777, the notice states that one award may be made to New York in the amount of $234,075 to a qualified applicant for a parent center to serve the entire State. The first sentence in the second paragraph of the “Estimated Project Awards” section is corrected to begin, “With the exception of New York, where the award will serve the metropolitan New York City area, one award may be made in the following amounts to a qualified applicant for a parent center to serve the entire State”.

FOR FURTHER INFORMATION CONTACT: For further information on this notice contact Debra Sturdivant, U.S. Department of Education, 400 Maryland Avenue, SW, room 3527, Switzer Building, Washington, DC 20202-2641. FAX: (202) 205-8105 (FAX is the preferred method for requesting information). Telephone: (202) 205-8038. Internet: Debra.Sturdivant@ed.gov.

If you use a telecommunications device for the deaf (TDD), you may call the Federal Information Relay Service (FIRS) at 1-800-877-8339.

Individuals with disabilities may obtain this document in an alternative format (e.g., Braille, large print, audiotape, or computer diskette) on request to the contact persons listed under FOR FURTHER INFORMATION CONTACT.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo/nara/index.html.

Program Authority: 20 U.S.C. 1482.

Dated: July 1, 2002.
Robert H. Pasternack,
Assistant Secretary for Special Education and Rehabilitative Services.

[FR Doc. 02-16880 Filed 7-3-02; 8:45 am]

BILLING CODE 4000-01-P